DEPARTMENT OF TRANSPORTATION

Federal Aviation Administration

14 CFR Part 71

[Docket No. FAA-2008-1091; Airspace Docket No. 08-AAL-32]

Revision of Jet Routes and Federal Airways; Alaska

AGENCY: Federal Aviation Administration (FAA), DOT.

ACTION: Final rule.

SUMMARY: This action amends the legal descriptions of eight Federal Airways and one Jet Route that have the Saldo (AK) Nondirectional Beacon (NDB), AK, included as part of their route structure. The NDB name is being changed to the Chinook (AUB) NDB. This action is necessary since the Saldo NDB is no longer being used as an outer marker, which requires changing the two-letter designation to a three-letter designation. No changes are being made to the National Airspace System routing structure or procedures.

DATES: Effective Dates: 0901 UTC, January 15, 2009. The Director of the Federal Register approves this incorporation by reference action under 1 CFR part 51, subject to the annual revision of FAA Order 7400.9 and publication of conforming amendments.

FOR FURTHER INFORMATION CONTACT: Ken McElroy, Airspace and Rules Group, Office of System Operations Airspace and AIM, Federal Aviation Administration, 800 Independence Avenue, SW., Washington, DC 20591; telephone: (202) 267-8783.

SUPPLEMENTARY INFORMATION:

Background

The National Flight Data Center has recently identified the need to change the Saldo NDB name as it is no longer being used as an outer marker. It is currently identified with the two-letter identifier “AK”. The new name will be Chinook, with the three-letter identifier “AUB”. There are eight Jet Routes and Federal Airways attached to this NDB. They are J-606, B-27, G-8, G-12, R-1, R-99, V-619 and T-230. The Federal Airways are further delineated as Colored, VOR, and Area Navigation Routes. No changes to routing or procedures are taking place. Accordingly, since this action merely involves a change in the legal description of the NDB, and does not involve a change in dimensions or operating requirements of the airspace, notice and public procedures under 5 U.S.C. 553 (b) are unnecessary.

Jet Routes are listed in paragraph 2004, Colored Federal Airways are listed in paragraph 6009, VOR Federal Airways are listed in paragraph 6010, and United States Area Navigation Routes are listed in paragraph 6011 of FAA Order 7400.9S, signed October 3, 2008, and effective October 31, 2008, which is incorporated by reference in 14 CFR 71.1. The airways listed in this document will be revised subsequently in the Order.

The Rule

This action amends Title 14 Code of Federal Regulations (14 CFR) part 71 by modifying Jet Route J-606, Federal Airways B-27, G-8, G-12, R-1, R-99, V-619, and U.S. Area Navigation Route T-230, by changing the name of the Saldo NDB to Chinook (AUB) NDB.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it revises Jet Routes and Federal Airways in Alaska.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9S, Airspace Designations and Reporting Points, signed October 3, 2008, and effective October 31, 2008, is amended as follows:

Paragraph 2004 Jet Routes.

* * * * *

J-606 [Revised]

From St. Paul Island, AK, NDB; to INT Cape Newenham, AK, NDB, 131° and Chinook, AK, NDB 262° radials; to Chinook, AK, NDB.

* * * * *

Paragraph 6009 (a) Green Federal airways.

* * * * *

G-8 [Revised]

From Shemya, AK, NDB, 20 AGL; Mount Moffet, AK, NDB, 20 AGL; Dutch Harbor, AK, NDB, 20 AGL; INT Dutch Harbor, AK, NDB 041° and Elfee, AK, NDB 253° bearings, 20 AGL; Elfee, AK, NDB, 20 AGL; Chinook, AK, NDB; INT Chinook, AK, NDB 054° and Kachemak, AK, NDB 269° bearings; to Kachemak, AK, NDB.

* * * * *

G-12 [Revised]

From Chinook, AK, NDB, 20 AGL; Port Heiden, AK, NDB, 20 AGL; Borland, AK, NDB; 20 AGL; to Elfee, AK, NDB.

* * * * *

Paragraph 6009(b) Red Federal airways.

* * * * *

R-1 [Revised]

From St. Paul Island, AK, NDB, 20 AGL; INT Chinook, AK, NDB 262° and Cape Newenham, AK, NDB 131° bearings; to Chinook, AK, NDB.

* * * * *

R-99 [Revised]

From St. Paul Island, AK, NDB, 20 AGL; Dutch Harbor, AK, NDB, 20 AGL; Chinook, AK, NDB, 20 AGL; Iliamna, AK, NDB; INT Iliamna, AK, NDB 124° and Kachemak, AK, NDB 269° bearings; to Kachemak, AK, NDB.

* * * * *

Paragraph 6009(d) Blue Federal airways.

* * * * *

B-27 [Revised]

From Woody Island, AK, NDB, 50 miles 12 AGL, 50 miles 95 MSL, 53 miles 12 AGL; Chinook, AK, NDB, 51 miles 12 AGL, 84 miles 70 MSL, 63 miles 12 AGL; Oscarville, AK, NDB; St. Marys, AK, NDB; Fort Davis, AK, NDB, 35 miles 12 AGL, 71 miles 55 MSL, 54 miles 12 AGL; to Hotham, AK, NDB.

* * * * *

Paragraph 6010(b) Alaskan VOR Federal airways.

* * * * *

V-619 [Revised]

From Port Heiden, AK, NDB/DME; via the INT of Port Heiden, AK, NDB/DME 044° and Chinook, AK, NDB 200° bearings; Chinook, AK, NDB; Dillingham, AK, VOR/DME 099° radial/47 DME; to Dillingham, AK, VOR/DME.

* * * * *

Paragraph 6011 United States Area Navigation Routes.

* * * * *

T-230 [Revised]

SPY | NDB/DME | (Lat. 57°09′28″ N., long. 170°13′51″ W.)
AUB | NDB | (Lat. 58°44′14″ N., long. 156°46′40″ W.)

* * * * *

Issued in Washington, DC, on November 6, 2008.
Edith V. Parish,
Manager, Airspace and Rules Group.

[FR Doc. E8-26941 Filed 11-17-08; 8:45 am]

BILLING CODE 4910-13-P